DEPARTMENT OF THE INTERIOR

Bureau of Land Management

[WY-921-1050-ET; WYW 144782]

Notice of Proposed Withdrawal and Opportunity for Public Meeting; Wyoming

AGENCY: Bureau of Land Management, Interior.

ACTION: Notice.

SUMMARY: The Secretary of the Interior proposes to withdraw certain federally owned public lands and reserved mineral interests to protect prehistoric petroglyphs and cultural resources in the Whoopup Canyon Area of Critical Environmental Concern, Weston County, Wyoming. To the extent specified below, this notice segregates from surface entry and mining for up to 2 years, the aforementioned lands and mineral interests.

DATE: Comments and requests for a public meeting must be received by June 22, 2004.

ADDRESS: Comments and meeting requests should be sent to the Bureau of Land Management, Wyoming State Director, P.O. Box 1828, Cheyenne, Wyoming 82003-1828.

FOR FURTHER INFORMATION CONTACT: Janet Booth, Bureau of Land Management (BLM) Wyoming State Office, (307) 775-6124.

SUPPLEMENTARY INFORMATION: The applicant is the Bureau of Land Management at the address stated above. The petition/application requests the Secretary of the Interior to withdraw for a period of 20 years and subject to valid existing rights, the following described federally owned public lands and reserved mineral interests from settlement, sale, location, or entry under the general land laws, including the mining laws, but not from mineral leasing, mineral material sales, or conveyances under Section 206 of the Federal Land Policy and Management Act of 1976, as amended:

Sixth Principal Meridian

T. 43 N., R. 60 W.,

Sec. 5, W½SW¼;

Sec. 6, SE¼NW¼;

Sec. 7, lot 4, SE¼SW¼;

Sec. 8, W½SW¼.

T. 44 N., R. 60 W.,

Sec. 19, SE¼SW¼, S½SE¼;

Sec. 20, S½SW¼;

Sec. 29, NW¼NW¼, SW¼SE¼;

Sec. 30, lots 3 and 4, N½NE¼, NE¼NW¼, SE¼SE¼;

Sec. 31, lots 1 to 4, inclusive, NE¼, E½W½;

Sec. 32, NE¼NE¼, S½NW¼;

Sec. 33, NW¼NW¼.

The area described contains approximately 1439.39 acres of federally owned surface and minerals in Weston County, Wyoming.

T. 43 N., R. 60 W.,

Sec. 6, lots 2, 4, 5, 6, 7, SW¼NE¼, E½SW¼;

Sec. 7, lots 1, 2, 3, W½E½, E½NW¼, NE¼SW¼;

Sec. 8, W½NW¼;

Sec. 18, E½NE¼, E½NW¼.

T. 44 N., R. 60 W.,

Sec. 29, NW¼NE¼, NE¼NW¼, S½NW¼, W½SW¼, SE¼SW¼;

Sec. 30, S½NE¼, SE¼NW¼, E½SW¼, W½SE¼, NE¼SE¼;

Sec. 31, SE¼SE¼;

Sec. 32, NW¼NE¼, NE¼NW¼, S½NE¼, N½SE¼;

Sec. 33, SW¼NW¼, NW¼SW¼.

The area described contains approximately 1919.51 acres of Federal reserved minerals underlying private surface in Weston County, Wyoming.

The BLM petition/application has been approved by the Assistant Secretary, Land and Minerals Management. Therefore, it constitutes a withdrawal proposal of the Secretary of the Interior. 43 CFR 2310.1-3(e).

The use of a right-of-way, interagency agreement, or cooperative agreement would not constrain non-discretionary uses that could irrevocably affect adversely the petroglyphs and cultural resources in the area.

There are no suitable alternative sites, since the lands described contain the resources that need protection.

No water rights will be needed to fulfill the purpose of the withdrawal.

Possible mineral deposits present in the above described land areas include some leasable, locatable, and salable minerals. No critical or strategic minerals, as defined by the Secretary of the Interior, are present in these areas.

The purpose of the proposed withdrawal is to protect valuable prehistoric petroglyphs and associated cultural resources pending further study and development of appropriate, and possibly longer-term, actions.

For a period of 90 days from the date of publication of this notice, all persons who wish to submit comments, suggestions, or objections in connection with the proposed withdrawal may present their views in writing to the Wyoming State Director.

Comments, including names and street addresses of respondents, will be available for public review at the Newcastle Field Office, 1101 Washington Blvd., Newcastle, Wyoming, during regular business hours, 7:45 a.m. to 4:30 p.m., Monday through Friday, except holidays. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal. All interested persons who desire a public meeting for the purpose of being heard on the proposed withdrawal should submit a written request to the Wyoming State Director within 90 days from the date of publication of this notice. If the authorized officer determines that a public meeting will be held, a notice of the time and place will be published in the Federal Register at least 30 days before the scheduled date of the meeting.

This withdrawal proposal will be processed in accordance with the regulations set forth in 43 CFR 2300.

For a period of 2 years from the date of publication of this notice in the Federal Register, the land will be segregated as specified above unless the application is denied or cancelled or the withdrawal is approved prior to that date.

Licenses, permits, cooperative agreements, or discretionary land use authorizations of a temporary nature which will not significantly impact the values to be protected by the withdrawal may be allowed with the approval of an authorized officer of the BLM during the segregative period.

Melvin Schlagel,
Realty Officer.

[FR Doc. 04-6542 Filed 3-23-04; 8:45 am]

BILLING CODE 4310-22-P